DEPARTMENT OF THE INTERIOR

Fish and Wildlife Service

Receipt of an Application and Availability of an Environmental Assessment for an Incidental Take Permit for Capital Improvement Projects within Charlotte County, FL

AGENCY: Fish and Wildlife Service, Interior.

ACTION: Notice.

SUMMARY: The Charlotte County Board of Commissioners (Applicant) requests an incidental take permit (ITP) pursuant to section 10(a)(1)(B) of the Endangered Species Act of 1973, as amended (Act) for the take of the Florida scrub-jay (Aphelocoma coerulescens) (scrub-jay). The Applicant anticipates taking 84.2 acres of occupied scrub-jay breeding, foraging, and sheltering habitat, incidental to otherwise lawful activities of road construction and community redevelopment (Projects) in Charlotte County, Florida. The development of this habitat is expected to result in the take of 11 families of scrub-jays. The Applicant's habitat conservation plan (HCP) describes the mitigation and minimization measures proposed to address the effects of the Projects to the scrub-jay. These measures are outlined in the SUPPLEMENTARY INFORMATION section below.

DATES: Written comments on the ITP application, HCP, and environmental assessment (EA) should be sent to the Fish and Wildlife Service's Regional Office (see ADDRESSES) and should be received on or before January 22, 2008.

ADDRESSES: Persons wishing to review the ITP application, EA, and HCP may obtain a copy by writing the Fish and Wildlife Service's Southeast Regional Office. Please reference permit number TE135674-0 in such requests. Documents will also be available for public inspection by appointment during normal business hours at the Regional Office, 1875 Century Boulevard, Suite 200, Atlanta, Georgia 30345, or the South Florida Ecological Services Office, Fish and Wildlife Service, 1339 20th Street, Vero Beach, Florida 32960-3559.

FOR FURTHER INFORMATION CONTACT: Mr. David Dell, Regional Permit Coordinator, Fish and Wildlife Service Regional Office (see ADDRESSES), telephone: 404/679-7313, facsimile 404/679-7081; or Mr. George Dennis, Ecologist, South Florida Ecological Services Office (see ADDRESSES), telephone: 772/562-3909 ext. 309, facsimile 772/562-4288.

SUPPLEMENTARY INFORMATION: If you wish to comment, you may submit written comments by any one of several methods. Please reference permit number TE135674-0 in such comments. You may mail comments to the Fish and Wildlife Service's Regional Office (see ADDRESSES). You may also comment via the Internet to david_dell@fws.gov. Please include your name and return address in your Internet message. If you do not receive a confirmation from us that we have received your internet message, contact us directly at either telephone number listed above (see FOR FURTHER INFORMATION CONTACT). Finally, you may hand deliver comments to either Fish and Wildlife Service office listed above (see ADDRESSES). Our practice is to make comments, including names and home addresses of respondents, available for public review during regular business hours. Individual respondents may request that we withhold their home address from the administrative record. We will honor such requests to the extent allowable by law. There may also be other circumstances in which we would withhold from the administrative record a respondent's identity, as allowable by law. If you wish us to withhold your name and address, you must state this prominently at the beginning of your comments. We will not, however, consider anonymous comments. We will make all submissions from organizations or businesses, and from individuals identifying themselves as representatives or officials of organizations or businesses, available for public inspection in their entirety.

The scrub-jay is geographically isolated from other species of scrub-jays found in Mexico and the western United States. The scrub-jay is found exclusively in peninsular Florida and is restricted to xeric uplands (predominately in oak-dominated scrub). Increasing urban and agricultural development has resulted in habitat loss and fragmentation that has adversely affected the distribution and numbers of scrub-jays. The total estimated population is between 7,000 and 11,000 individuals.

Four Projects are proposed including three road extensions at Winchester Boulevard, Edgewater Drive, and Solomon Drive, and a community redevelopment project at Murdock Village. All Projects are within the previously subdivided, partly developed urban areas of Charlotte County. The Applicant has identified 11 scrub-jay families within the Project areas. The four Projects are expected to destroy 84.2 acres of occupied scrub-jay habitat. Scrub-jays using the Project areas are part of two scrub-jay metapopulations in Charlotte County: The Sarasota-western Charlotte metapopulation, which occurs on the Cape Haze peninsula, and the northwestern Charlotte metapopulation, which occurs between the Myakka and Peace Rivers. The continued persistence of scrub-jays in this area may be dependent on the maintenance of suitable habitat and the restoration of unsuitable habitat.

Construction of the Projects will result in harm to scrub-jays, incidental to the carrying out of these otherwise lawful activities. Habitat alteration associated with the proposed road construction and community redevelopment will reduce the availability of nesting, foraging, and sheltering habitat for 11 families of scrub-jays. The Applicant proposes to mitigate take of scrub-jays by preserving, restoring, and managing in perpetuity 275 acres of scrub-jay habitat within the affected scrub-jay meta-populations.

The Fish and Wildlife Service has made a preliminary determination that issuance of the requested ITP is not a major Federal action significantly affecting the quality of the human environment within the meaning of Section 102(2)(C) of National Environmental Policy Act (NEPA). This preliminary information may be revised due to public comment received in response to this notice and is based on information contained in the EA and HCP.

The Fish and Wildlife Service will evaluate the HCP and comments submitted thereon to determine whether the ITP application meets the requirements of section 10(a) of the Act (16 U.S.C. 1531 et seq.). If the Fish and Wildlife Service determines that those requirements are met, an ITP will be issued for the incidental take of the Florida scrub-jay. The Fish and Wildlife Service will also evaluate whether issuance of this section 10(a)(1)(B) ITP complies with section 7 of the Act by conducting an intra-Service section 7 consultation. The results of this consultation, in combination with the above findings, will be used in the final analysis to determine whether or not to issue the ITP. This notice is provided pursuant to section 10 of the Endangered Species Act and NEPA regulations (40 CFR 1506.6).

Dated: October 26, 2007.
Cynthia K. Dohner,
Acting Regional Director, Southeast Region.

[FR Doc. E7-22815 Filed 11-21-07; 8:45 am]

BILLING CODE 4310-55-P